NATIONAL AERONAUTICS AND SPACE ADMINISTRATION

[01-133]

Proposed Collection; Comment Request

AGENCY: National Aeronautics and Space Administration (NASA).

ACTION: Notice of agency report forms under OMB review.

SUMMARY: The National Aeronautics and Space Administration, as part of its continuing effort to reduce paperwork and respondent burden, invites the general public and other Federal agencies to take this opportunity to comment on proposed and/or continuing information collections, as required by the Paperwork Reduction Act of 1995 (Public Law 104-13, 44 U.S.C. 3506(c)(2)(A)). This collection provides NASA with information necessary for the effective management of government property.

DATES: All comments should be submitted on or before December 24, 2001.

ADDRESSES: All comments should be addressed to Mr. Phillip Smith, Code BFZ, National Aeronautics and Space Administration, Washington, DC 20546-0001.

FOR FURTHER INFORMATION CONTACT: Ms. Nancy Kaplan, NASA Reports Officer, (202) 358-1372.

Title: NASA Property in the Custody of Contractors.

OMB Number: 2700-0017.

Type of review: Extension.

Need and Uses: NASA is required to account for Government-owned/contractor-held property in accordance with SFFAS #6. NASA Form 1018 provides for the annual collection of summary data from these records to ensure the accurate reflection of Agency assets and related depreciation on the financial statements and essential property management information.

Affected Public: Business or other for-profit; Not-for-profit institutions.

Number of Respondents: 860.

Responses Per Respondent: 1.

Annual Responses: 1.

Hours Per Request: 8.

Annual Burden Hours: 7000.

Frequency of Report: Annually.

David B. Nelson,
Deputy Chief Information Officer, Office of the Administrator.

[FR Doc. 01-26627 Filed 10-22-01; 8:45 am]

BILLING CODE 7510-01-P